DEPARTMENT OF JUSTICE

Drug Enforcement Administration

Manufacturer of Controlled Substances; Notice of Registration

By Notice dated March 20, 2006 and published in the Federal Register on March 24, 2006, (71 FR 14948), Cerilliant API Services LLC, 811 Paloma Drive, Suite A, Round Rock, Texas 78664, made application to the Drug Enforcement Administration (DEA) to be registered as a bulk manufacturer of the basic classes of controlled substances listed in Schedule I and II; and by letter to modify its name to Austin Pharma LLC. Subsequent to the publication of the Notice of Application, by letter, the company has also requested to withdraw thirty-five drug codes from their initial application request.

Drug | Schedule
Marihuana (7360) | I
Tetrahydrocannabinols (7370) | I
Alphamethadol (9605) | I
Methadone (9250) | II
Methadone intermediate (9254) | II
Levo-alphacetylmethadol (9648) | II
Alfentanil (9737) | II
Remifentanil (9739) | II
Sufentanil (9740) | II
Fentanyl (9801) | II

The company plans to manufacture the listed controlled substances in bulk for distribution to its customers.

In reference to drug code 7360 (Marihuana), the company plans to bulk manufacture cannabidiol as a synthetic intermediate. This controlled substance will be further synthesized to bulk manufacture a synthetic THC (7370). No other activity for this drug code is authorized for this registration.

No comments or objections have been received. DEA has considered the factors in 21 U.S.C. 823(a) and determined that the registration of Cerilliant API Services LLC to manufacture the listed basic classes of controlled substances is consistent with the public interest at this time. DEA has investigated Cerilliant API Services LLC to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: July 26, 2006.
Joseph T. Rannazzisi,
Deputy Assistant Administrator, Office of Diversion Control, Drug Enforcement Administration.

[FR Doc. E6-12478 Filed 8-1-06; 8:45 am]

BILLING CODE 4410-09-P